DEPARTMENT OF COMMERCE

International Trade Administration

[A-844-802]

Amendment to Agreement Suspending the Antidumping Investigation on Uranium From Uzbekistan

AGENCY: Import Administration, International Trade Administration, Department of Commerce.

ACTION: Notice of Amendment to the Agreement Between the United States Department of Commerce and the Republic of Uzbekistan Suspending the Antidumping Investigation on Uranium from Uzbekistan.

SUMMARY: On October 28, 1999, the Department of Commerce (the Department) and the Republic of Uzbekistan (Uzbekistan) signed an Amendment to the Agreement Suspending the Antidumping Investigation on Uranium from Uzbekistan. This Amendment doubles the amount of Uzbek-origin uranium that may be imported into the United States for further processing prior to re-exportation. In addition, it lengthens the period of time uranium may remain in the United States for such processing to up to three years.

EFFECTIVE DATE: October 28, 1999.

FOR FURTHER INFORMATION CONTACT: James Doyle or Sally Gannon, AD/CVD Enforcement, Import Administration, International Trade Administration, U.S. Department of Commerce, 14th Street and Constitution Ave., NW., Washington, DC 20230; telephone: (202) 482-0159 or (202) 482-1374, respectively.

SUPPLEMENTARY INFORMATION:

Background

On October 16, 1992, the Department and Uzbekistan signed the Agreement Suspending the Antidumping Investigation on Uranium from Uzbekistan (Agreement). On October 30, 1992, the Agreement was published in the Federal Register (57 FR 49220, 49255). On September 30, 1994, the Department and Uzbekistan initialed an amendment to modify the Appendix A price-tied quota contained in the original Agreement. The amendment was then released to interested parties for comment. The Department considered these comments and held further consultations with Uzbekistan. On July 21, 1995, the Department and Uzbekistan initialed an amendment similar to the previous amendment except that this amendment contained clauses which redefined Uzbek-origin uranium to include uranium mined in Uzbekistan and enriched in a third country. This amendment was also released to interested parties for comment, which were again considered by the Department. Subsequently, the Department and Uzbekistan negotiated an amendment based upon a different concept than the two amendments previously initialed. This amendment replaced the reference price calculation, and authorized, during the first and second years of the amendment, direct or indirect deliveries of up to 940,000 pounds U3O8 equivalent per year of Uzbek-origin natural uranium from Uzbekistan to the United States, provided that the latest price calculated pursuant to Section IV.C.1 was at or above $12.00 per pound equivalent. Commencing with the third year (October 13, 1997), this amendment authorized Uzbekistan to make annual deliveries of uranium up to, but not exceeding, the levels in accordance with the production-tied quota table set forth in Appendix A. The amendment retained the provision redefining Uzbek-origin uranium to include uranium mined in Uzbekistan and enriched in a third country. On October 13, 1995, the Department and Uzbekistan signed a final Amendment to the Agreement which took effect immediately (60 FR 55005 (October 27, 1995)). On August 5, 1999, the Department released to interested parties for comment an additional amendment which the Department and Uzbekistan had initialed regarding the re-export provision of the Agreement. The amendment extended the 12-month limitation to up to 36 months and increased the amount of Uzbek uranium which could enter the United States for further processing from three million pounds U3O8 to six million pounds U3O8. The Department subsequently released the proposed amendment to interested parties for comment. No comments were received. The Department and Uzbekistan then signed the final amendment in its initialed form effective October 28, 1999. The text of this amendment follows in the Annex to this notice.

Dated: January 21, 2000.
Joseph A. Spetrini,
Deputy Assistant Secretary for Enforcement Group III.

ANNEX Amendment to the Agreement Suspending the Antidumping Investigation on Uranium From Uzbekistan

Consistent with the requirement of Section 734(l) of the U.S. Tariff Act of 1930, as amended, to prevent the suppression or undercutting of price levels of domestic products in the United States, Section IV of the Agreement Suspending the Antidumping Investigation on Uranium from Uzbekistan, as amended on October 13, 1995, (the Agreement) is amended as set forth below. All other provisions of the Agreement, particularly Section VII, remain in force and apply to this Amendment.

1. The following paragraphs replace Section IV.H:

For purposes of permitting processing in the United States of uranium products from Uzbekistan, the Government of Uzbekistan may issue re-export certificates for import into the United States of Uzbek uranium products (“Uzbek Uranium”) only where such imports to the United States are not for sale or ultimate consumption in the United States and where re-exports will take place within 12 months or within 36 months of the original entry into the United States as indicated by the importer of record at the time of entry. The date of original entry for Uzbek uranium shall be the date the Uzbek uranium is released by U.S. Customs for entry into the United States.

In no event shall an export certificate be endorsed by Uzbekistan for uranium products previously imported into the United States under such re-export certificate. Such re-export certificates will in no event be issued in amounts greater than one million pounds U3O8 equivalent per re-export certificate.

The importer of record must specify at the time of entry whether it will re-export the entered material under the 12-month limitation or under the 36-month limitation (which requires additional certifications as noted below).

Re-export certificates issued under the 12-month limitation shall not exceed three million pounds U3O8 equivalent at any one time.

Additional re-export certificates may be issued under the 36-month limitation as long as the total amount of uranium products entered pursuant to re-export certificates issued (under both the 12-month and 36-month limitations) does not exceed six million pound U3O8 equivalent at any one time.

For re-exports entered under the 36-month limitation, the importer of record must provide the Department with the following at the time of entry: (1) Certification that it will ensure re-exportation within 36 months of entry into the United States; (2) certification from the end-user that the uranium products will not be sold, loaned, swapped, used as loan repayments, or utilized other than for re-export in accordance with Section IV.H of the suspension agreement; and (3) certification from the U.S. convertor and/or enricher and/or fabricator, as applicable, that the uranium products will not be sold, loaned, swapped, used as loan repayments, or utilized other than for re-export in accordance with Section IV.H of the suspension agreement while held at the respective entity's facility. Liquidation will be suspended for all such entries of uranium products which are covered by the 36-month re-export certificates. Suspension of liquidation will be continued for each such entry until all uranium products covered by the respective entries are re-exported and the Department of Commerce has notified Customs that the relevant entries may be liquidated.

If uranium products from Uzbekistan are: (A) If subject to the 12-month limitation, not re-exported within 12 months; (B) if subject to the 36-month limitation, not re-exported within 36 months, or (C) if subject to the 36-month limitation, sold, loaned, swapped, used as loan repayments, or utilized other than for re-export in accordance with Section IV.H of the Agreement, the Department will refer the matter to Customs or the Department of Justice for further action and the United States will promptly notify the Government of Uzbekistan and the two governments shall enter into consultations. If the uranium products are not re-exported within 3 months of the referral to Customs or the Department of Justice and the problem has not been resolved to the mutual satisfaction of both the United States and the Government of Uzbekistan, the volume of the uranium products entered pursuant to the re-export certificate may be counted against the export limit in effect at such time, or, if there is insufficient quota, the first available quota. This volume may be restored to the export limit if the product is subsequently re-exported.

The Parties agree that this Amendment constitutes an integral part of the Agreement. The English language version of this Amendment shall be controlling.

Signed on this 28th day of October, 1999.
For the Government of Uzbekistan:
Nicholay Kuchersky,
General Director, Navoi Mining and Metallurgical Combinat.
For the United States Department of Commerce:
Robert S. LaRussa,
Assistant Secretary for Import Administration.

[FR Doc. 00-2016 Filed 1-28-00; 8:45 am]

BILLING CODE 3510-DS-P